DEPARTMENT OF COMMERCE

National Oceanic and Atmospheric Administration

[I.D. 100506D]

Notice of Intent to Prepare an Environmental Impact Statement for the Establishment of Annual Quotas for the Subsistence Harvest of Bowhead Whales by Alaska Natives

AGENCY: National Marine Fisheries Service (NMFS), National Oceanic and Atmospheric Administration (NOAA), Commerce.

ACTION: Notice of intent to prepare an environmental impact statement (EIS); announcement of public scoping period; request for written comments.

SUMMARY: NMFS announces its intent to prepare an EIS pursuant to the National Environmental Policy Act of 1969 (NEPA), in order to assess the impacts of issuing annual quotas for the subsistence harvest of bowhead whales by Alaska Natives from 2008 through 2017. Publication of this notice begins the official scoping period that will help identify issues and alternatives to be considered in the EIS. The scoping process will end December 15, 2006.

ADDRESSES: To request inclusion on a mailing list of persons interested in the EIS, please contact Steve Davis, NMFS, 222W 7th Avenue, Box 43, Anchorage, AK 99513. Comments on this notice and the scoping process for this action may be submitted by:

• Mail: P.O. Box 21668, Juneau, AK 99802-1668.

• Hand Delivery to the Federal Building: 709 West 9th Street, Room 420A, Juneau, AK

• FAX: 907-586-7557

• Email: bowhead-EIS@noaa.gov. Include in the subject line the following document identifier: Bowhead Whale Quota EIS (Email comments, with or without attachments, are limited to five (5) megabytes).

FOR FURTHER INFORMATION CONTACT: Steve Davis or Brad Smith, NMFS Alaska Region, Anchorage Field Office, (907) 271-5006.

SUPPLEMENTARY INFORMATION: NMFS is initiating this EIS process in order to comprehensively assess impacts of the subsistence harvest of Western Arctic bowhead whales by Alaska Natives from 2008 through 2017.

Background

Eskimos have hunted bowhead whales for over 2,000 years as the whales migrate in the spring and fall along the coast line of Alaska. Their traditional subsistence hunts for these whales have been regulated by a quota system under the authority of the International Whaling Commission (IWC) since 1977. Alaska Native subsistence hunters, from 10 northern Alaskan communities, take less than one percent of the stock of bowhead whales per year. Since 1977, the number of strikes has ranged between 14 and 72 animals per year, depending in part on changes in IWC management strategy due to higher estimates of bowhead whale abundance in recent years, as well as hunter efficiency. The IWC sets an overall aboriginal subsistence harvest for this relevant stock, based on the request of Contracting Governments on behalf of the aboriginal hunters. In the case of Alaska Eskimo and Russian Native subsistence hunts, the United States and the Russian Federation make a joint request for a subsistence quota for bowhead whales to the IWC.

NMFS must annually publish aboriginal subsistence whale hunting quotas and any other limitations on such hunting in the Federal Register (50 CFR 230.6). The subsistence hunt is directly managed by the Alaska Eskimo Whaling Commission (AEWC). In order to comprehensively assess the effects of these annual quotas, NMFS is proposing to set the term of this analysis to extend over a 10-year period, beginning in 2008.

Alternatives

NMFS preliminarily anticipates four alternatives:

Alternative 1: Grant the AEWC annual quotas amounting to 510 landed whales over 10 years (2008 through 2017), with an annual strike quota of 67 bowhead whales per year, where no unused strikes are added to the quota for any one year.

Alternative 2: Grant the AEWC annual quotas amounting to 510 landed whales over 10 years (2008 through 2017), with an annual strike quota of 67 bowhead whales per year, where no more than 15 unused strikes are added to the strike quota for any one year.

Alternative 3: Grant the AEWC annual quotas amounting to 510 landed whales over 10 years (2008 through 2017), with an annual strike quota of 67 bowhead whales per year, where, for unused strikes, up to 50 percent of the annual strike limit is added to the strike quota for any one year.

Alternative 4 (no action): Do not grant the AEWC any annual quotas.

Major issues to be addressed in this EIS include: the impact of subsistence removals on the Western Arctic stock of bowhead whales; the impacts of these harvest levels on the traditional and cultural values of Alaska Natives, and the cumulative effects of the action when considered along with past, present, and future actions potentially affecting bowhead whales.

Public Involvement

We begin this NEPA process by soliciting input from the public and interested parties on the type of impacts to be considered in the EIS, the range of alternatives to be assessed, and any other pertinent information. Specifically, this scoping process is intended to accomplish the following objectives:

1. Invite affected Federal, state, and local agencies, Alaska Natives, and other interested persons to participate in the EIS process.

2. Determine the potential significant environmental issues to be analyzed in the EIS.

3. Identify and eliminate issues determined to be insignificant or addressed in other documents.

4. Allocate assignments among the lead agency and cooperating agencies regarding preparation of the EIS, including impact analysis and identification of mitigation measures.

5. Identify related environmental documents being prepared.

6. Identify other environmental review and consultation requirements.

The official scoping period is from the date of this notice until December 15, 2006.

Please visit NMFS Alaska Region web page at http://www.fakr.noaa.gov for more information on this EIS. NMFS estimates the draft EIS will be available in April 2007.

Authority

The preparation of the EIS for the subsistence harvest of Western Arctic bowhead whales by Alaska Natives will be conducted under the authority and in accordance with the requirements of NEPA, Council on Environmental Quality Regulations (40 CFR parts 1500-1508), other applicable Federal laws and regulations, and policies and procedures of NMFS for compliance with those regulations.

Dated: October 12, 2006.
Samuel D. Rauch III,
Deputy Assistant Administrator for Regulatory Programs, National Marine Fisheries Service.

[FR Doc. E6-17370 Filed 10-17-06; 8:45 am]

BILLING CODE 3510-22-S